DEPARTMENT OF THE TREASURY

31 CFR Part 103

RIN 1505-AA44

Financial Crimes Enforcement Network; Amendment to the Bank Secrecy Act Regulations; Definition of Futures Commission Merchants and Introducing Brokers in Commodities as Financial Institutions; Requirement That Futures Commission Merchants and Introducing Brokers in Commodities Report Suspicious Transactions; Correction

AGENCY: Financial Crimes Enforcement Network (FinCEN), Treasury.

ACTION: Final rule; correction.

SUMMARY: FinCEN published in the Federal Register of November 20, 2003, a document (68 FR 65392) finalizing a rule defining futures commission merchants and introducing brokers in commodities and requiring these financial institutions to report suspicious transactions. The document contained an inadvertent typographical error deleting several words from an existing definition of “transaction” in the general definitional section of the Bank Secrecy Act regulations.

DATES: This correction is effective December 22, 2003.

FOR FURTHER INFORMATION CONTACT: Alma Angotti, Senior Enforcement Attorney, Office of the Chief Counsel (FinCEN), (703) 905-3590 (not a toll-free number).

SUPPLEMENTARY INFORMATION:

Background

The final rule that is the subject of these corrections provides guidance under 31 CFR part 103.

Need for Correction

As published, the final rule contains errors that may prove to be misleading and are in need of clarification.

Correction of Publication

In final rule FR Doc. 03-28991, published on November 20, 2003 (68 FR 65392), make the following correction.

§ 103.11 Corrected

On page 65398, in column 1, correct paragraph (ii)(1) by adding the words “purchase or redemption of casino chips or tokens, or other gaming instruments” after the words “purchase or redemption of any money order, payment or order for any money remittance or transfer,'.

Dated: January 21, 2004.
Cynthia L. Clark,
Deputy Chief Counsel, Financial Crimes Enforcement Network, Federal Register Liaison.

[FR Doc. 04-1845 Filed 1-28-04; 8:45 am]

BILLING CODE 4810-02-P